DEPARTMENT OF DEFENSE

Office of the Secretary

[Docket ID DOD-2011-OS-0069]

Notice of Intent To Prepare an Environmental Assessment Regarding DLA Energy's Mobility Fuel Purchasing Programs

AGENCY: Defense Logistics Agency Energy (DLA Energy), DoD.

ACTION: Notice of Intent To Prepare an Environmental Assessment Regarding DLA Energy's Mobility Fuel Purchasing Programs.

SUMMARY: The Defense Logistics Agency is America's combat logistics support agency responsible for sourcing and providing nearly every consumable item used by U.S. military forces worldwide. DLA Energy is a primary level field activity of DLA responsible for providing the Department of Defense and other government agencies with comprehensive energy solutions in the most effective and efficient manner possible. Its products and services offer a large array of energy related needs for the Federal Government and also help facilitate the cycle of storage and deployment of fuels and other energy sources.

DLA Energy's action, to purchase mobility fuels for the Department of Defense, has not changed. However, the nature and makeup of the petroleum market has. Crude oil from Canada represents 13% of total United States consumption. The Canadian Association of Petroleum Producers 2010 forecast states that by 2020 Canadian oil sands production will rise from 2.72 million barrels per day in 2009 to 4.34 million barrels per day in 2025. In addition, within the past three years, the Department of State has approved two new pipelines to transport crude oil derived from Canadian oil sands to the United States. An additional permit for a third pipeline is pending. Thus, more petroleum products derived from Canadian oil sands recovered crude may be available within the United States petroleum market. In addition, because various types of crudes are comingled prior to processing and because refined petroleum products are fungible, it is anticipated that these petroleum products produced from Canadian oil sands recovered crude will be blended with and thus indistinguishable from other petroleum products, thereby making it difficult for DLA Energy to exclude Canadian oil sands recovered crude refined petroleum from routine petroleum purchases. Therefore, DLA Energy has decided to study whether its current purchases of mobility fuels for its customers today, and in the future, would or would not have environmental consequences. DLA Energy will conduct an Environmental Assessment to evaluate the potential environmental, human health, engineering and socioeconomic considerations, including a review of lifecycle greenhouse gas emissions, associated with DLA Energy's purchase of mobility fuels, including any fuels containing Canadian oil sands recovered crude, in light of Section 526 of the EISA.

The Environmental Assessment will aid DLA Energy in defining the effects of its current mobility fuels purchasing program, and determine whether a modification to this program would bring an improved environmental outcome without consequences to DLA Energy's mission to support the Warfighter with comprehensive Energy solutions in the most effective and efficient manner possible.

This notice serves as an announcement of scoping. As such, comments are sought from the public, government agencies, and other interested persons and organizations. Scoping is used to gain insight into the issues to be addressed and to identify other significant issues related to the proposed actions. All comments submitted during scoping will be considered by DLA Energy.

There is always the possibility that DLA Energy might proceed to prepare an Environmental Impact Statement for the proposed actions instead of an Environmental Assessment. If this occurs, comments submitted now will be considered for any Environmental Impact Statement that is developed.

DATES: Comments on the scope of the issues and alternatives to be addressed in the Environmental Assessment must be postmarked or e-mailed no later than 30 days from the date of publication.

ADDRESSES: You may submit comments, identified by the docket ID and title, by any of the following methods:

• Federal eRulemaking Portal: http://www.regulations.gov. Follow the instructions for submitting comments.

• E-mail: NEPA@dla.mil. Include the docket ID in the subject line of the message.

• Mail: Project Manager for NEPA, DLA Installation Support for Energy, 8725 John J Kingman Road, Suite 2828, Fort Belvoir, VA 22060.

• Mailing List: To be added to a mailing list about the proposed actions, contact DLA Installation Support for Energy at 703-767-8312.

Note: Before including your address, phone number, e-mail address, or other personal identifying information in your comment, be advised that your entire comment, including your personal identifying information, may be made publicly available at any time. While you can ask in your comment to withhold from public review your personal identifying information, we cannot guarantee that we will be able to do so.

FOR FURTHER INFORMATION CONTACT: Donald Martin, Environmental Management Division, DLA Installation Support for Energy, 8725 John J. Kingman Road, Suite 2828, Fort Belvoir, VA 22060, (703) 767-8312, NEPA@dla.mil.

SUPPLEMENTARY INFORMATION: The mission of the DLA Energy (formerly known as Defense Energy Support Center) is to provide the Department of Defense (DoD) and other government agencies with comprehensive energy solutions in the most effective and efficient manner possible. DLA Energy contracts for fuel and other types of energy on behalf of the DoD and other government agencies.

More than 99% of the fuel DLA Energy purchases are petroleum products. In FY 2010, DLA Energy purchased 5.5 billion gallons of fuel world wide, which included aviation fuels, marine distillate fuels and ground products such as heating oil, diesel and gasoline. Although DLA Energy is the largest federal government purchaser of petroleum, its purchases constitute less than 2% of total United States consumption. Within the jet fuel market, DLA Energy's purchases are about 10% of total United States jet fuel consumption.

For all of its procurements, DLA Energy follows standard procurement procedures as required in the Federal Acquisition Regulation and the Defense Federal Acquisition Regulation Supplement. DLA Energy uses commercial contracting procedures for commercial items found in Part 12 of these regulations. Almost all contracts are solicited using full and open competitive procedures and are awarded based on price. All the petroleum based fuel contracts contain economic price adjustment provisions, using market based industry publications.

DLA Energy relies on industry practices and standards for manufacture, delivery, inspection, and acceptance of the fuels it purchases. All petroleum fuels are purchased under commercial or military specifications. The military specification fuel differs in only a few parameters from the commercial counterpart, such as flash point, freeze point and some special fuel additives. The military specification fuel is produced in the same refineries by the same methods as other commercial petroleum products and the same refineries which are producing military specification product for DLA Energy are producing commercial petroleum products at the same time.

In addition, Section 526 of the Energy Independence and Security Act of 2007 requires that the lifecycle greenhouse gas emissions of alternative or synthetic fuels, including a fuel produced from nonconventional petroleum sources, be less than or equal to the lifecycle greenhouse gas emissions of equivalent conventional petroleum in order for the federal government to contract for the fuel.

Dated: June 20, 2011.
Aaron Siegel,
Alternate OSD Federal Register Liaison Officer, Department of Defense.

[FR Doc. 2011-16305 Filed 6-28-11; 8:45 am]

BILLING CODE 5001-06-P